DEPARTMENT OF VETERANS AFFAIRS

[OMB Control No. 2900-0118]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 6, 2007.

ADDRESSES: Submit written comments on the collection of information through http://www.Regulations.gov; or to VA's OMB Desk Officer, OMB Human Resources and Housing Branch, New Executive Office Building, Room 10235, Washington, DC 20503, (202) 395-7316. Please refer to “OMB Control No. 2900-0118” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0118.”

SUPPLEMENTARY INFORMATION: Title: Transfer of Scholastic Credit (Schools), VA Form Letter 22-315.

OMB Control Number: 2900-0118.

Type of Review: Extension of a currently approved collection.

Abstract: Students receiving VA education benefits and are enrolled in two training institutions, must have the primary institution at which the student pursues his or her approved program of education verify that courses pursued at a secondary school will be accepted as full credit towards the student's course objective. VA sends VA Form Letter 22-315 to the student requesting that they have the certifying official of his or her primary institution to list the course or courses pursued at the secondary school for which the primary institution will give full credit. Educational payment for courses pursued at a secondary school is not payable until VA receives evidence from the primary institution verifying that the student is pursuing his or her approved program while enrolled in these courses. VA Form Letter 22-315 serves as this certification of acceptance.

An agency may not conduct or sponsor, and a person is not required to respond to a collection of information unless it displays a currently valid OMB control number.

The Federal Register Notice with a 60-day comment period soliciting comments on this collection of information was published on December 21, 2006 at pages 76726-76727.

Affected Public: Not-for-profit institutions, and State, Local or Tribal Government.

Estimated Annual Burden: 1,050 hours.

Estimated Average Burden per Respondent: 10 minutes.

Frequency of Response: Occasion.

Estimated Number of Respondents: 6,329.

Dated: February 22, 2007.
By direction of the Secretary.
Denise McLamb,
Program Analyst, Records Management Service.

[FR Doc. E7-4007 Filed 3-6-07; 8:45 am]

BILLING CODE 8320-01-P